DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 10, 2005.

Interested persons are invited to submit written comments regarding the subject matter of the investigations to the Director, Division of Trade Adjustment Assistance, at the address shown below, not later than January 10, 2005.

The petitions filed in this case are available for inspection at the Office of the Director, Division of Trade Adjustment Assistance, Employment and Training Administration, U.S. Department of Labor, Room C-5311, 200 Constitution Avenue, NW., Washington, DC 20210.

Signed at Washington, DC this 22nd day of December 2004.
Timothy Sullivan,
Director, Division of Trade Adjustment Assistance.

Appendix

[Petitions instituted between 12/06/2004 and 12/10/2004]
TA-W | Subject firm (petitioners) | Location | Date of institution | Date of petition
56,139 | Interdynamics, Inc. (Comp) | Brooklyn, NY | 12/06/2004 | 12/03/2004.
56,140 | Woodbridge Corp. (State) | Whitmore Lake, MI | 12/06/2004 | 12/02/2004.
56,141 | Acme-McCrary Corp. (Comp) | Wilkesboro, NC | 12/06/2004 | 11/23/2004.
56,142 | Valenite, Inc. Materials R and D (State) | Troy, MI | 12/06/2004 | 12/03/2004.
56,143 | Tee Jays Manufacturing Co., Inc. (Comp) | Florence, AL | 12/06/2004 | 12/02/2004.
56,144 | Heller Industries (Wkrs) | Florham Park, NJ | 12/06/2004 | 12/05/2004.
56,145 | Corning, Inc. (Wkrs) | Corning, NY | 12/06/2004 | 12/02/2004.
56,146 | Southern Ohio Fabricators (Wkrs) | Batavia, OH | 12/06/2004 | 11/20/2004.
56,147 | Innovex, Inc. (State) | Maple Plain, MN | 12/06/2004 | 12/02/2004.
56,148 | Ozark Elec. Repair, Inc. (Wkrs) | Cullman, AL | 12/06/2004 | 12/02/2004.
56,149 | Honeywell International (Comp) | Cleveland, TN | 12/06/2004 | 12/03/2004.
56,150 | Dicon Fiberoptics, Inc. (Wkrs) | Richmond, CA | 12/06/2004 | 11/23/2004.
56,151 | Cinergy Solutions or Rock Hill (Comp) | Rock Hill, SC | 12/06/2004 | 11/19/2004.
56,152 | Markovitz Enterprises (Wkrs) | New Castle, PA | 12/06/2004 | 12/02/2004.
56,153 | Shawcor Ltd. (Comp) | Theodore, AL | 12/06/2004 | 12/02/2004.
56,154 | JR Green (State) | Boonton, NJ | 12/06/2004 | 12/02/2004.
56,155 | All Access Apparel (State) | Montebello, CA | 12/06/2004 | 11/23/2004.
56,156 | Spang and Co. (Wkrs) | Pittsburgh, PA | 12/06/2004 | 12/02/2004.
56,157 | Capital City Press, Inc. (Comp) | Barre, VT | 12/07/2004 | 12/01/2004.
56,158 | Square D/Schneider Electric (Comp) | Columbia, MO | 12/07/2004 | 12/06/2004.
56,159 | T and R Knitting Mills, Inc. (Comp) | Glendale, NY | 12/07/2004 | 12/03/2004.
56,160 | Kennametal, Inc. (Wkrs) | Latrobe, PA | 12/07/2004 | 12/03/2004.
56,161 | Brooks Hosiery, Inc. (Comp) | Salvania, AL | 12/07/2004 | 12/06/2004.
56,162 | Visteon Systems LLC (IUECWA) | Connersville, IN | 12/07/2004 | 12/10/2004.
56,163 | Gateway Hosiery Mills, Inc. (Comp) | Chattanooga, TN | 12/07/2004 | 11/05/2004.
56,164 | Corhart Refractories (Comp) | Louisville, KY | 12/07/2004 | 12/06/2004.
56,165 | Inland Press (Comp) | Menomonee, WI | 12/07/2004 | 12/06/2004.
56,166 | Lilli Group, Inc. (The) (State) | S. Hackensack, NJ | 12/07/2004 | 12/06/2004.
56,167 | CIGNA HealthCare (Wkrs) | Chattanooga, TN | 12/07/2004 | 12/01/2004.
56,168 | AG Communication Systems (Wkrs) | Geona, IL | 12/07/2004 | 12/07/2004.
56,169 | JDS Uniphase (Wkrs) | Ewing, NJ | 12/08/2004 | 12/06/2004.
56,170 | Broyhill Pacemaker (Wkrs) | Lenoir, NC | 12/08/2004 | 12/01/2004.
56,171 | Lear Corporation (UAW) | Hazelwood, MO | 12/08/2004 | 12/06/2004.
56,172 | Cooper Atkins (State) | Gainesville, FL | 12/08/2004 | 12/06/2004.
56,173 | Durable Ralph, Inc. (State) | Harrison, AR | 12/08/2004 | 12/07/2004.
56,174 | Maryland Specialty Wire, Inc. (State) | Cockeysville, MD | 12/08/2004 | 12/07/2004.
56,175 | New Time Garment Manufacturing (Wkrs) | San Francisco, CA | 12/08/2004 | 12/06/2004.
56,176 | Spirit Manufacturing, Inc. (State) | Jonesboro, AR | 12/08/2004 | 12/07/2004.
56,177 | Wyeth (Wkrs) | Marietta, PA | 12/08/2004 | 11/30/2004.
56,178 | Electrolux Co. (State) | St. Cloud, MN | 12/08/2004 | 12/07/2004.
56,179 | More Sewit (Comp) | Longmont, CO | 12/08/2004 | 12/07/2004.
56,180 | Bristol Meyers-Squibb (Wkrs) | Syracuse, NY | 12/08/2004 | 12/01/2004.
56,181 | Aladdin Industries, LLC Corporate HQ (Comp) | Nashville, TN | 12/08/2004 | 12/01/2004.
56,182 | Cardinal Health (Comp) | Dublin, OH | 12/08/2004 | 12/03/2004.
56,183 | Sprint Telephone and Telegraph (Wkrs) | Rocky Mount, NC | 12/08/2004 | 12/07/2004.
56,184 | Johnstown Corporation (USWA) | Johnstown, PA | 12/08/2004 | 11/28/2004.
56,185 | Adecco (Comp) | Grand Rapids, MI | 12/08/2004 | 11/23/2004.
56,186 | Worldtronics International (NPC) | Oglesby, IL | 12/08/2004 | 12/07/2004.
56,187 | AT and T (CWA) | Charleston, WV | 12/08/2004 | 11/24/2004.
56,188 | Symbol Technologies (Wkrs) | Bohemia, NY | 12/09/2004 | 11/10/2004.
56,189 | CDI-Temp Agency (State) | Corvallis, OR | 12/09/2004 | 12/08/2004.
56,190 | Knowles Electronics (Wkrs) | Itasca, IL | 12/09/2004 | 12/06/2004.
56,191 | Nilfisk Advance (State) | Plymouth, MN | 12/09/2004 | 12/08/2004.
56,192 | Douglas Battery Manufacturing Co. (Comp) | Winston-Salem, NC | 12/09/2004 | 12/08/2004.
56,193 | Midwestern Telecommunications (Wkrs) | Homewood, IL | 12/10/2004 | 12/07/2004.
56,194 | Mid-west Spring and Stamping (State) | Little Canada, MN | 12/10/2004 | 12/09/2004.
56,195 | Crotty Corp. (Comp) | Gainsboro, TN | 12/10/2004 | 12/09/2004.
56,196 | Stern Rubber Co. (State) | Staples, MN | 12/10/2004 | 12/10/2004.
56,197 | Design Group International (State) | N. Shinington, CT | 12/10/2004 | 12/09/2004.

[FR Doc. 04-28567 Filed 12-29-04; 8:45 am]

BILLING CODE 4510-30-M